DEPARTMENT OF THE TREASURY

Submission for OMB Review; Comment Request

May 8, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 15, 2001, to be assured of consideration.

Internal Revenue Service (IRS)

OMB Number: 1545-0181.

Form Number: IRS Form 4768.

Type of Review: Extension.

Title: Application for Extension of Time to File a Return and/or Pay U.S. Estate (and Generation-Skipping Transfer) Taxes.

Description: Form 4768 is used by estates to request an extension of time to file an estate (and GST) taxes and to explain why the extension should be granted. IRS uses the information to decide whether the extension should be granted.

Respondents: Individuals or households, business or other for-profit.

Estimated Number of Respondents/Recordkeepers: 18,500.

Estimated Burden Hours Per Respondent/Recordkeeper:

Recordkeeping: 13 min.;

Learning about the law or the form: 16 min.;

Preparing the form: 22 min.;

Copying, assembling, and sending the form to the IRS: 20 min.

Frequency of Response: On occasion.

Estimated Total Reporting/Recordkeeping Burden: 22,200 hours.

OMB Number: 1545-0201.

Form Number: IRS Form 5308.

Type of Review: Revision.

Title: Request for Change in Plan/Trust Year.

Description: Form 5308 is used to request permission to change the plan or rust year for a pension benefit plan. The information submitted is used in determining whether IRS should grant permission for the change.

Respondents: Business or other for-profit.

Estimated Number of Respondents/Recordkeepers: 480.

Estimated Burden Hours Per Respondent/Recordkeeper: 41 minutes.

Frequency of Response: On occasion.

Estimated Total Reporting/Recordkeeping Burden: 325 hours.

OMB Number: 1545-1212.

Form Number: IRS Form 706-QDT.

Type of Review: Extension.

Title: U.S. Estate Tax Return for Qualified Domestic Trusts.

Description: Form 706-QDT is used by the trustee or the designated filer to compute and report the Federal estate tax imposed on qualified domestic trusts by Internal Revenue Code (IRC) section 2056A. IRS uses the information to enforce this tax and to verify that the tax has been properly computed.

Respondents: Individuals or households, business or other for-profit.

Estimated Number of Respondents/Recordkeepers: 80.

Estimated Burden Hours Per Respondent/Recordkeeper:

Recordkeeping: 1 hr., 12 min.;

Learning about the law or the form: 42 min.;

Preparing the form: 1 hr., 30 min.;

Copying, assembling, and sending the form to the IRS: 1 hr., 3 min.

Frequency of Response: Annually.

Estimated Total Reporting/Recordkeeping Burden: 357 hours.

OMB Number: 1545-1733.

Form Number: IRS Form 720-CS.

Type of Review: Extension.

Title: Carrier Summary Report.

Description: Representatives of the motor fuel industry, state governments, and the Federal government are working to ensure compliance with excise taxes on motor fuels. This joint effort has resulted in a system to track the movement of all products to and from terminals. Form 720-CS is an information return that will be used by carriers to report their monthly deliveries and receipts of products to and from terminals.

Respondents: Business or other for-profit.

Estimated Number of Respondents/Recordkeepers: 475.

Estimated Burden Hours Per Respondent/Recordkeeper:

Recordkeeping: 12 hr., 10 min.;

Learning about the law or the form: 30 min.;

Preparing and sending the form to the IRS: 43 min.

Frequency of Response: Monthly.

Estimated Total Reporting/Recordkeeping Burden: 148,485 hours.

OMB Number: 1545-1734.

Form Number: IRS Form 720-TO.

Type of Review: Extension.

Title: Terminal Operator Report.

Description: Representatives of the motor fuel industry, state governments, and the Federal government are working to ensure compliance with excise taxes on motor fuels. This joint effort has resulted in a system to track the movement of all products to and from terminals. Form 720-TO is an information return that will be used by terminal operators to report their monthly receipts and disbursements of products.

Respondents: Business or other for-profit.

Estimated Number of Respondents/Recordkeepers: 1,500.

Estimated Burden Hours Per Respondent/Recordkeeper:

Recordkeeping: 18 hr., 52 min.;

Learning about the law or the form: 30 min.;

Preparing and sending the form to the IRS: 49 min.

Frequency of Response: Monthly.

Estimated Total Reporting/Recordkeeping Burden: 2,285,280 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-12334 Filed 5-15-01; 8:45 am]

BILLING CODE 4830-01-U